NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: November 8, 2006; 1 p.m. to 5:45 p.m. (est). November 9, 2006; 8 a.m. to 12:30 p.m. (est).

Place: National Science Foundation, 4201 Wilson Boulevard, Room 1235.

Type of Meeting: Open.

Contact Person: Joan Miller, National Science Foundation, 4201 Wilson Boulevard, Arlington, VA 22230 (703) 292-8200.

Purpose of Meeting: To provide advice concerning issues related to the oversight, integrity, development and enhancement of NSF's business operations.

Agenda:

November 8, 2006

PM: Welcome; Updates—Office of Budget, Finance, and Award Management, Office of Information and Resource Management, Chief Information Officer activities. Presentation and Discussion—New Framework for Strategic Goal Assessment; Committee Discussion; Meeting with NSF Director/Deputy Director; Committee Discussion.

November 9, 2006

AM: Presentation and Discussion—Grants Management Line of Business (GMLoB) and Grants.gov Update; Information and Resource Management Discussion; Committee Discussion/Wrap-Up.

Dated: October 12, 2006.
Susanne Bolton,
Committee Management Officer.

[FR Doc. 06-8720 Filed 10-16-06; 8:45 am]

BILLING CODE 7555-01-M